DEPARTMENT OF LABOR

Office of the Secretary

Submission for OMB Review: Comment Request

July 5, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Permissible Equipment Testing.

OMB Number: 1219-0066.

Forms: MSHA 2000-38.

Frequency: On occasion.

Type of Response: Recordkeeping, Reporting, and Third party disclosure.

Affected Public: Business or other for-profit.

Number of Respondents: 190.

Average Response Time: Varies by activity.

Cite/Reference (30 CFR) | Estimated number of annual responses | Estimated annual burden hours
Part 6 | 3 | 2
Part 7 | 120 | 1,391
Part 15 | 2 | 10.00
Part 18 | 383 | 996
Part 19 | 5 | 22
Part 20 | 6 | 49
Part 22 | 17 | 60
Part 23 | 6 | 23
Part 27 | 4 | 21
Part 28 | 3 | 20
Part 33 | 3 | 20
Part 35 | 6 | 144
Part 36 | 5 | 30
Grand Total | 563 | 2,788

Total Annualized capital/startup costs: $0.

Total Annual Costs (operating/maintaining systems or purchasing services): $1,164,160.

Description: MSHA is responsible for the inspection, testing, approval and certification, and quality control of mining equipment and components, materials, instruments, and explosives used in both underground and surface coal, metal, and nonmetal mines. Title 30 CFR parts 6 through 36 require that an investigation leading to approval or certification will be undertaken by MSHA only pursuant to a written application accompanied by prescribed drawings and specifications identifying the piece of equipment. This information is used by engineers and scientists to evaluate the design in conjunction with tests to assure conformance to standards prior to approval for use in mines.

Agency: Mine Safety and Health Administration.

Type of Review: Extension of currently approved collection.

Title: Hazard Communication—30 CFR part 47.

OMB Number: 1219-0133.

Forms: None.

Frequency: On occasion.

Type of Response: Recordkeeping and Third party disclosure.

Affected Public: Business or other for-profit.

Number of Respondents: 21,031.

Number of Annual Responses: 845,370.

Average Response Time: Varies by mine size and type.

Total Annual Burden Hours: 203,438.

Total Annualized capital/startup costs: $0.

Total Annual Costs (operating/maintaining systems or purchasing services): $496,166.

Description: 30 CFR part 47 (the “HazCom” Standard) requires mine operators and/or contractors to assess the hazards of chemicals they produce or use and provide information to their miners concerning the chemicals' hazards. The mine operators and/or contractors must develop a written hazard communication program that describes how they will inform miners of chemical hazards and safe handling procedures through miner training, labeling containers of hazardous chemicals, and providing miners access to material safety data sheets (MSDSs). The purpose of the information sharing is to provide miners with the right to know the hazards and identities of the chemicals they are exposed to while working, as well as the measures they can take to protect themselves from these hazards. Through HazCom mine operators and/or contractors also have the necessary information regarding the hazards of chemicals present at their mines, so that work methods are improved or instituted to minimize exposure to these chemicals. HazCom provides miners with access to this information, so that they can take action to protect themselves.

Darrin A. King,
Acting Departmental Clearance Officer.

[FR Doc. 05-13850 Filed 7-13-05; 8:45 am]

BILLING CODE 4510-43-P